DEPARTMENT OF HEALTH AND HUMAN SERVICES

Health Resources and Services Administration

Request for Information (RFI): Opportunities To Apply a Department of Health and Human Services Message Library To Advance Understanding About Toddler and Preschool Nutrition and Physical Activity

AGENCY: Health Resources and Services Administration (HRSA), HHS.

ACTION: Notice.

SUMMARY: This Request for Information (RFI) solicits ideas and information related to ways in which the U.S. Department of Health and Human Services (HHS) can work with interested partners to disseminate and apply a library of short, evidence-based messages known as TXT4Tots. This library of brief informational nutrition and physical activity focused messages was developed and tested by the American Academy of Pediatrics (AAP) under a cooperative agreement with the Health Resources and Services Administration (HRSA). The TXT4Tots library is targeted to parents and caregivers of children, ages 1-5 years, and is available in both English and Spanish. Content for the messages was derived from AAP's “Bright Futures: Guidelines for Health Supervision of Infants, Children, and Adolescents,” which uses a developmentally based approach to address children's health needs in the context of family and community. The name TXT4Tots describes the library of developed messages and does not necessarily imply the need for dissemination through mobile, Short Message Service messaging.

HRSA is issuing this RFI to solicit information and ideas on how to effectively incorporate the TXT4Tots library of messages into a wide variety of existing public and private programs and products that can best meet the needs of parents, caregivers, and child advocates, including health care providers. We recognize there are multiple ways this can occur and, therefore, are seeking input on how the TXT4Tots message library could be maximized to advance understanding about toddler and preschool nutrition and physical activity, and the interests of potential partners in working with HHS to do so. The intent is to build upon current programs, policies, and infrastructure to enhance education, disseminate the TXT4Tots message library, and leverage existing programs in innovative ways, particularly to support outreach to underserved communities where access to health education may be limited. The goal is to ensure that the TXT4Tots library of messages remains publicly available at no cost for noncommercial purposes. In addition to this RFI for written comments, HRSA intends to host a short, in-person forum in Washington, DC, to hear proposed comments from the public. Participation in the forum will also be possible through a dedicated conference call line and webinar capabilities. Further details on the forum are described below.

DATES: Written and electronic responses should be submitted to HRSA on or before Tuesday, February 19, 2013, at 5 p.m. EST at the address listed below.

ADDRESSES: You may submit comments by one of the following methods:

• Electronic responses should be addressed to ohitq@hrsa.gov using the title “Response to RFI” in the subject line.

• Written responses should be addressed to the Department of Health and Human Services, Health Resources and Services Administration, Attention: Response to RFI, Suite 7-100, 5600 Fishers Lane, Rockville, Maryland 20857.

• A copy of this RFI will also be available at www.hhs.gov/open.

The submission of written materials in response to the RFI should not exceed eight double-spaced pages, not including appendices and supplemental documents. Responders may submit other forms of electronic materials to demonstrate or exhibit concepts of their written responses. Any information you submit will be made public. Consequently, do not send proprietary, commercial, financial, business confidential, trade secret, or personal information that you do not wish to be made public. Responses to this RFI will be available to the public at HRSA, 5600 Fishers Lane, Rockville, Maryland 20857. Please email ohitq@hrsa.gov to arrange access.

FOR FURTHER INFORMATION CONTACT: Yael Harris, Ph.D., Health Resources and Services Administration, Office of Special Health Affairs, Office of Health Information Technology and Quality, 5600 Fishers Lane, Room 7-100, Rockville, Maryland 20857, or email yharris@hrsa.gov.

SUPPLEMENTARY INFORMATION: Instructions for Participating in Public Forum: An in-person forum will take place on February 20, 2013, from 1-3 p.m. EST. Opportunities for public comment will be made available the day of the event for those attending in person. The meeting will take place at the Hubert Humphrey Building, 200 Independence Avenue, Room 800, Washington, DC 20201. In-person attendees should allow time to get through security and will be personally escorted. In order to participate by webinar, please register at the following link: https://www3.gotomeeting.com/register/769306734.

After registering, individuals will receive a confirmation email containing information about joining the webinar on the day of the event.

Background Information

As the lead federal agency charged with providing health and human services to all Americans, the challenges facing HHS are tremendous. We are working every day to give Americans the building blocks they need to live healthy and successful lives. In the last few years, the use of mobile health as a tool to improve individual and family health as well as improve patient-provider communication has grown tremendously. Personalized tools and the ability to get instant access to information have empowered individuals to be more engaged in managing their health. According to a Pew Charitable Trusts study conducted in 2012, approximately 85 percent of American adults own a cell phone and 53 percent of these individuals have a smart phone, allowing them access to their email, the internet, and health care applications from any location. Research shows that one in three cell phone users have used their phone to look up health information and, among those with smartphones, more than half report using their cell phone to gather health information. The use of cell phones for health information is highest among those who self identify as caregivers and those of childbearing age. Research conducted by the AAP in 2011 indicated that many parents of young children would value timely information related to nutrition and physical activity and agree that having this information transmitted via their mobile device would be desirable. A group of physicians who participated in a focus group with the AAP indicated that they would consider referring parents and caregivers to a resource that could provide reliable, trust-worthy information on healthy eating and physical activity for young children. Other modalities besides mobile text messaging to communicate health information can include, but are not limited to, video games addressing children's health, online games and programs around childhood health, online communities focused on pediatric health, email and/or phone reminders, personalized information on patient portals, mobile health applications, and physician tear pads.

This RFI builds on efforts to engage stakeholders in the integration of innovative health education strategies. The intent is to build upon existing platforms and outreach models for pediatric health, and support parents and caregivers of young children ages 1-5 years.

The complete message library will be made available to the public on February 20. Below are some examples of the messages contained within the library:

Nutrition

1. We know you're a family on the go, but try to only eat fast food once a week. If eating fast food today, try grilled chicken or pick fruit as a side.

2. 100% fruit juice has sugar that damages teeth as much as soda. Limit to 4-6 oz daily. Try water with fruit slices instead.

3. Fighting a picky eater can be a real challenge, have your picky eater help you make the meal. Let them set the table or stir the vegetables.

Snacking

1. Snacking on the run? Keep cheese sticks, apple slices, and whole grain crackers on hand. 2-3 snacks a day prevent hunger temper tantrums.

2. You are a great role model. Show your preschooler the healthy choices you make by snacking on fruits and veggies together.

3. Let your child pick healthy snacks at the grocery store. Watch this video for a fun idea to do with snacks after the store: bit.ly/sUClvM.

Physical Activity

1. Activity idea! Play freeze dance. Put on your child's favorite music and take turns turning it off and on!

2. Activity idea! Play Follow The Leader! Let your child be the leader too—march, crawl, or dance for fun.

3. Being a parent is a busy job. Try adding exercise to your day by taking the stairs or parking the car away from the store entrance.

Information Requested

In addition to the general solicitation of comments above, we are also asking the following questions for the public to consider in the context of the preceding discussion within this document:

1. What are potential vehicles of communication for disseminating the TXT4Tots message library?

2. How could the TXT4Tots library of messages be integrated into current or new programs or platforms?

3. How could the TXT4Tots library of messages be incorporated into public and private (national, state, local, and tribal) programs and products?

4. How could HHS work with partners to leverage the message library?

5. What are situational opportunities for engaging stakeholders that might lead to behavior change as a result of incorporating the TXT4Tots library into current or new programs?

Dated: January 23, 2013.
Mary K. Wakefield,
Administrator.

[FR Doc. 2013-01728 Filed 1-28-13; 8:45 am]

BILLING CODE 4165-15-P